DEPARTMENT OF THE INTERIOR

Bureau of Safety and Environmental Enforcement

[Docket ID BSEE-2022-0010; EEEE500000 234E1700D2 ET1SF0000.EAQ000; OMB Control Number 1014-0004]

Agency Information Collection Activities; Submission to the Office of Management and Budget for Review and Approval; Oil and Gas Well-Completion Operations

AGENCY: Bureau of Safety and Environmental Enforcement, Interior.

ACTION: Notice of information collection; request for comment.

SUMMARY: In accordance with the Paperwork Reduction Act (PRA) of 1995, the Bureau of Safety and Environmental Enforcement (BSEE) proposes to renew an information collection.

DATES: Interested persons are invited to submit comments on or before April 6, 2023.

ADDRESSES: Written comments and recommendations for the proposed information collection should be sent within 30 days of publication of this notice to www.reginfo.gov/public/do/PRAMain. Find this particular information collection by selecting “Currently under 30-day Review—Open for Public Comments” or by using the search function. Please provide a copy of your comments to Kye Mason, BSEE ICCO, 45600 Woodland Road, Sterling, VA 20166; or by email to kye.mason@bsee.gov. Please reference OMB Control Number 1014-0004 in the subject line of your comments.

FOR FURTHER INFORMATION CONTACT: To request additional information about this ICR, contact Kye Mason by email at kye.mason@bsee.gov, or by telephone at (703) 787-1607. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on August 4, 2022 (87 FR 47788). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The regulations at 30 CFR 250, subpart E, pertain to Oil and Gas Well-Completion Operations and are the subject of this collection. This request also covers the related Notices to Lessees and Operators (NTLs) that BSEE issues to clarify, supplement, or provide additional guidance on some aspects of our regulations.

The BSEE uses the information collected under Subpart E to ensure that planned well-completion operations will protect personnel and natural resources. They use the analysis and evaluation results in the decision to approve, disapprove, or require modification to the proposed well-completion operations. Specifically, BSEE uses the information to ensure:

• compliance with personnel safety training requirements;

• crown block safety device is operating and can be expected to function to avoid accidents;

• proposed operation of the annular preventer is technically correct and provides adequate protection for personnel, property, and natural resources;

• blowout prevention (BOP) equipment complies with the most recent WCR and API Standard 53;

• well-completion operations are conducted on well casings that are structurally competent; and

• sustained casing pressures are within acceptable limits.

Title of Collection: 30 CFR 250, Subpart E, Oil and Gas Well-Completion Operations.

OMB Control Number: 1014-0004.

Form Number: None.

Type of Review: Extension of a currently approved collection.

Respondents/Affected Public: Potential respondents include Federal OCS oil, gas, and sulfur lessees and/or operators and holders of pipeline rights-of-way.

Total Estimated Number of Annual Respondents: Currently there are approximately 550 Federal OCS oil, gas, and sulfur lessees and holders of pipeline rights-of-way. Not all the potential respondents will submit information in any given year, and some may submit multiple times.

Total Estimated Number of Annual Responses: 5,898.

Estimated Completion Time per Response: Varies from 1.5 hours to 13 hours, depending on activity.

Total Estimated Number of Annual Burden Hours: 17,985.

Respondent's Obligation: Mandatory.

Frequency of Collection: Generally submitted weekly, biennially, and on occasion, depending on the requirement.

Total Estimated Annual Nonhour Burden Cost: We have identified no non-hour cost burdens associated with this collection of information.

Burden Breakdown
Citation 30 CFR 250 subpart E | Reporting and recordkeeping requirements | Hour burden | Average number of annual responses | Annual burden hours (rounded)
500-531 | General departure and alternative compliance requests not specifically covered elsewhere in Subpart E regulations | Burden covered under Subpart A—1014-0022 |  | 0
513 | These sections contain references to information, approvals, requests, payments, etc., which are submitted with an APD, the burdens for which are covered under its own information collection | APD burden covered under 1014-0025 |  | 0
513(a); 518(f); 526(a); 527 | These sections contain references to information, approvals, requests, payments, etc., which are submitted with an APM, the burdens for which are covered under its own information collection | APM burden covered under 1014-0026 |  | 0
511 | Record weekly results of traveling-block safety device in operations log | 1.5 | 498 completions × 1 recordings = 498 | 747
512 | Request establishment, amendment, or cancellation of well-completion field rules | 12 | 28 requests | 336
513(c), (d) | Submit End of Operations Report (Form BSEE-0125) to District Manager 30-days after completion; including additional supporting information and public info. copy | Burden covered under Subpart D—1014-0018 |  | 0
514(c) | Post the number of stands of drill pipe/collars that may be pulled and equivalent well-control fluid volume | 2 | 850 postings | 1,700
524 | Retain records of casing pressure and diagnostic tests for 2 years or until the well is abandoned | 2 | 3,672 records | 7,344
526(b); 528 | Submit a casing pressure request; any additional information as needed | 9.5 | 708 requests | 6,726
530(a) | Submit correction action plan to District Manager; notify BSEE after completion of corrected action within 30 days | 13 | 74 plans | 962
530(b) | Submit the casing pressure diagnostic test data within 14 days | 2.5 | 68 submittals | 170
Total Hour Burden |  |  | 5,898 Responses | 17,985

An agency may not conduct, or sponsor and a person is not required to respond to a collection of information unless it displays a currently valid OMB control number.

The authority for this action is the Paperwork Reduction Act of 1995 (44 U.S.C. 3501 et seq.).

Kirk Malstrom,
Chief, Regulations and Standards Branch.

[FR Doc. 2023-04624 Filed 3-6-23; 8:45 am]

BILLING CODE 4310-VH-P